DEPARTMENT OF JUSTICE

Antitrust Division

Notice Pursuant to the National Cooperative Research and Production Act of 1993—The National Center for Manufacturing Sciences, Inc.

Notice is hereby given that, on July 22, 2003, pursuant to Section 6(a) of the National Cooperative Research and Production Act of 1993, 15 U.S.C. 4301 et seq. (“the Act”), The National Center for Manufacturing Sciences, Inc. has filed written notifications simultaneously with the Attorney General and the Federal Trade Commission disclosing changes in its membership status. The notifications were filed for the purpose of extending the Act's provisions limiting the recovery of antitrust plaintiffs to actual damages under specified circumstances. Specifically, Acer America Corporation, Newbury Port, MA; Foster-Miller, Inc., Waltham, MA; Gage Products Company, Ferndale, MI; Leszynski Group Inc., Bellevue, WA; Intel Corporation, Santa Clara, CA; Precon Machining Optimization Technologies, Gross Pointe Park, MI; Rolls Royce Corporation, Indianapolis, IN; and Unigraphics Solutions, Inc., Plymouth Meeting, PA have been added as parties to this venture.

No other changes have been made in either the membership or planned activity of the group research project. Membership in this group research project remains open, and The National Center for Manufacturing Sciences, Inc. intends to file additional written notification disclosing all changes in membership.

On February 20, 1987, The National Center for Manufacturing Sciences, Inc. filed its original notification pursuant to Section 6(a) of the Act. The Department of Justice published a notice in the Federal Register pursuant to Section 6(b) of the Act on March 17, 1987 (52 FR 8375).

The last notification was filed with the Department on April 7, 2003. A notice was published in the Federal Register pursuant to Section 6(b) of the Act on May 14, 2003 (68 FR 25906-01).

Dorothy B. Fountain,
Deputy Director of Operations, Antitrust Division.

[FR Doc. 03-20824 Filed 8-14-03; 8:45 am]

BILLING CODE 4410-11-M